DEPARTMENT OF LABOR

Bureau of Labor Statistics

Data Users Advisory Committee; Notice of Meeting and Agenda

The Bureau of Labor Statistics Data Users Advisory Committee will meet on Tuesday, November 9, 2021. This meeting will be held virtually.

The Committee provides advice to the Bureau of Labor Statistics from the points of view of data users from various sectors of the U.S. economy, including the labor, business, research, academic, and government communities. The Committee advises on technical matters related to the collection, analysis, dissemination, and use of the Bureau's statistics, on its published reports, and on the broader aspects of its overall mission and function.

The agenda for the meeting is as follows:

12:00 p.m. Commissioner's welcome and review of agency developments

12:30 p.m. Gaining input on automation and its impact on the workforce

1:30 p.m. Break

1:45 p.m. Measuring changes in retail trade

3:00 p.m. Using administrative data in the Import and Export Price Indexes

3:40 p.m. Discussion of future topics and concluding remarks

4:00 p.m. Conclusion

The meeting is open to the public. Anyone planning to attend the meeting should contact Lisa Fieldhouse, Data Users Advisory Committee, at fieldhouse.lisa@bls.gov. Any questions about the meeting should be addressed to Ms. Fieldhouse. Individuals who require special accommodations should contact Ms. Fieldhouse at least two days prior to the meeting date.

Signed at Washington, DC, this 7th day of October 2021.
Leslie Bennett,
Acting Chief, Division of Management Systems, Bureau of Labor Statistics.

[FR Doc. 2021-22296 Filed 10-13-21; 8:45 am]

BILLING CODE 4510-24-P